DEPARTMENT OF ENERGY

Federal Energy Regulatory Commission

[Project No. 13595-000]

McGinnis, Inc.; Notice of Preliminary Permit Application Accepted for Filing and Soliciting Comments, Motions To Intervene, and Competing Applications

December 10, 2009.

On September 29, 2009, McGinnis, Inc. filed an application, pursuant to section 4(f) of the Federal Power Act, proposing to study the feasibility of the Pike Island Hydrokinetic Project No. 13595, to be located on the Ohio River, in Belmont County, Ohio and Ohio County, West Virginia.

The proposed Pike Island Hydrokinetic Project would be located just downstream of the U.S. Army Corps of Engineers Pike Island Lock and Dam in an area of the Ohio River approximately 6,400-feet-long and 1,500-feet-wide and would consist of: (1) A single barge suspending approximately 10 axial-flow turbine generators into the river with a total installed capacity of 350 kilowatts, (2) a new approximately 2,500-foot-long, 13.2-kilovolt transmission line; and (3) appurtenant facilities. The project would have an estimated annual generation of 1,533 megawatt-hours.

Applicant Contact: Russell Painter, McGinnis, Inc., P.O. Box 534, 502 Second St. Ext., South Point, OH 45680, (740) 377-4391.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of the Commission's Web site at http://www.ferc.gov/docs-filing/elibrary.asp. Enter the docket number (P-13595) in the docket number field to access the document. For assistance, call toll-free 1-866-208-3372.

Kimberly D. Bose,
Secretary.

[FR Doc. E9-29926 Filed 12-15-09; 8:45 am]

BILLING CODE 6717-01-P